DEPARTMENT OF COMMERCE

International Trade Administration

(A-570-803)

Heavy Forged Hand Tools, Finished or Unfinished, With or Without Handles, from the People's Republic of China: Notice of Extension of Time Limit for Final Results of the 2005-2006 Antidumping Duty Administrative Review

AGENCY: Import Administration, International Trade Administration, Department of Commerce.

EFFECTIVE DATE: August 8, 2007.

FOR FURTHER INFORMATION CONTACT: Mark Flessner or Robert James, AD/CVD Enforcement Office 7, Import Administration, International Trade Administration, U.S. Department of Commerce, 14th Street and Constitution Avenue, NW., Washington, DC 20230; telephone: (202) 482-6312 or (202) 482-0649, respectively.

SUPPLEMENTARY INFORMATION:

Background

The Department of Commerce (the Department) published the preliminary results and partial rescission of the 2005-2006 antidumping duty administrative review of heavy forged hand tools, finished or unfinished, with or without handles (Hand Tools), from the People's Republic of China (PRC) on March 8, 2007. See Heavy Forged Hand Tools, Finished or Unfinished, With or Without Handles, From the People's Republic of China: Preliminary Results and Partial Rescission of the 2005-2006 Administrative Reviews, 72 FR 10492 (March 8, 2007). We received a case brief from respondent Shandong Machinery Import & Export Company (SMC) on April 9, 2007. Separate rebuttal briefs were received from both petitioners, Ames True Temper (Ames) and Council Tool Company (Council Tools) on April 16, 2007. On April 24, 2007, we placed on the record certain documents received from the U.S. Customs and Border Protection (CBP). See Memorandum to the File from Mark Flessner, Case Analyst, entitled “Heavy Forged Hand Tools, Finished or Unfinished, With or Without Handles, From the People's Republic of China (A-580-803): U.S. Entry Documents and Opportunity to Comment,” dated April 24, 2007. SMC, Ames, and Council Tools filed comments concerning these CBP documents on May 9, 2007. SMC requested and was granted time to file a rebuttal to the Ames and Council Tools comments; SMC's rebuttal was received on May 16, 2007. On July 6, 2007, the Department published in the Federal Register a notice of extension for the final results. See Notice of Extension of Time Limit for Final Results and Partial Rescission of the 2005-2006 Antidumping Duty Administrative Review of Heavy Forged Hand Tools, Finished or Unfinished, With or Without Handles, from the People's Republic of China, 72 FR 36959 (July 6, 2007). This partially extended the time limit for the final results until August 6, 2007.

Extension of Time Limits for Final Results

Pursuant to section 751(a)(3)(A) of the Tariff Act of 1930, as amended (the Tariff Act), and 19 CFR 351.213(h)(1), the Department shall issue the preliminary results of an administrative review within 245 days after the last day of the anniversary month of the date of publication of the order. The Tariff Act further provides that the Department shall issue the final results of review within 120 days after the date on which the notice of the preliminary results was published in the Federal Register. However, if the Department determines that it is not practicable to complete the review within this time period, section 751(a)(3)(A) of the Tariff Act and 19 CFR 351.213(h)(2) allow the Department to extend the 245-day period to 365 days and the 120-day period to 180 days.

Due to the addition of important new information to the record, the complexity of the issues involved, and the time required to analyze the numerous submissions and arguments raised in parties' briefs, the Department has determined that it is not practicable to complete these reviews within the period of the partial extension indicated by the Federal Register notice published on July 6, 2007.

Section 751(a)(3)(A) of the Tariff Act and 19 CFR 351.213(h) allow the Department to extend the deadline for the final results of a review to a maximum of 180 days from the date on which the notice of the preliminary results was published. The current deadline for the final results is August 6, 2007. For the reasons noted above, the Department is fully extending the time limit for the completion of the final results for the 2005-2006 antidumping duty administrative review of Hand Tools from the PRC until no later than September 4, 2007, which is 180 days from the date on which the notice of the preliminary results was published.

This notice is issued and published in accordance with section 777(i)(1) of the Tariff Act.

Dated: August 2, 2007.
Gary Taverman,
Acting Deputy Assistant Secretary for Import Administration.

[FR Doc. E7-15478 Filed 8-7-07; 8:45 am]

BILLING CODE 3510-DS-S